DEPARTMENT OF AGRICULTURE

Food and Nutrition Service

Agency Information Collection Activities: Proposed Collection; Comment Request—Supplemental Nutrition Assistance Program's Quality Control Review Schedule Form FNS 380-1

AGENCY: Food and Nutrition Service (FNS), USDA.

ACTION: Notice.

SUMMARY: In accordance with the Paperwork Reduction Act of 1995, this notice invites the general public and other public agencies to comment on this proposed information collection. This is a revision of a currently approved collection for OMB No. 0584-0299.

DATES: Written comments must be received on or before December 14, 2015.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Stephanie Proska, Food and Nutrition Service, U.S. Department of Agriculture, 3101 Park Center Drive, Room 822, Alexandria, VA 22302. Comments may also be submitted via fax to the attention of Stephanie Proska at 703-305-0928 or via email to SNAPHQ-WEB@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Stephanie Proska at 703-305-2437.

SUPPLEMENTARY INFORMATION: Title: Quality Control Review Schedule.

Form Number: FNS 380-1.

OMB Number: 0584-0299.

Expiration Date: February 29, 2016.

Type of Request: Revision of a currently approved collection.

Abstract: Form FNS 380-1 is the Supplemental Nutrition Assistance Program's (SNAP) Quality Control (QC) Review Schedule which collects QC and household characteristics data. The information needed to complete this form is obtained from the SNAP case record and state quality control findings. The information is used to monitor and reduce errors, develop policy strategies and analyze household characteristic data. We estimate that it takes 1.05 hours per response and .0236 hours per record for recordkeeping to complete the form.

Affected Public: State, Local and Tribal Government: Respondent groups identified include: 53 State agencies.

Estimated Number of Responses per Respondent: The total estimated number of responses per respondent is 1,039.02.

Estimated Frequency per Respondent: 1.9980769.

Estimated Total Annual Responses: The estimated total annual responses are 110,136. This includes 55,068 sampled active cases for QC review and the same 55,068 records being kept by the 53 State agencies.

Estimated Time per Response: The estimated time of response for State agencies to report is approximately 63.36 minutes and the estimated response time for State agencies to do recordkeeping is approximately 1.42 minutes. Therefore, the total time per response is approximately 64.78 minutes.

Estimated Total Annual Burden on Respondents: 3,567,055.8 minutes (59,450.93 hours). See the table below for estimated total annual burden for each type of respondent.

Reporting and Recordkeeping Burden
Respondent | Estimated number respondents | Responses annually per respondent | Total annual responses (col. bxc) | Estimated average number of hours per response | Estimated total hours (col. dxe)
State Agencies Reporting | 53 | 1,039.02 | 55,068 | 1.056 | 58,151.87
State Agencies Recordkeeping | 53 | 1,039.02 | 55,068 | 0.0236 | 1,299.60
Total Reporting Burden | 106 |  | 110,136 | 1.0796 | 59,450.93

Dated: October 2, 2015.
Audrey Rowe,
Administrator, Food and Nutrition Service.

[FR Doc. 2015-26292 Filed 10-14-15; 8:45 am]

BILLING CODE 3410-30-P